ENVIRONMENTAL PROTECTION AGENCY

[FRL-7102-6]

Agency Information Collection Activities: Submission for OMB Review; Comment Request; Regulation of Fuels and Fuel Additives: Gasoline Volatility; Reporting Requirements

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Regulation of Fuels and Fuel Additives: Gasoline Volatility; Reporting Requirements for Refiners, Blenders, Importers, and Transferors of Gasoline Containing Ethanol, and Reporting Requirements for Parties Seeking a Testing Exemption (40 CFR 80.27), EPA ICR Number 1367.06, OMB Control Number 2060-0178, expiration date: December 31, 2001. The ICR describes the nature of the information collection and its expected burden and cost; where appropriate, it includes the actual data collection instrument.

DATES: Comments must be submitted on or before December 13, 2001.

ADDRESSES: Send comments, referencing EPA ICR Number 1367.06 and OMB Control Number 2060-0178 to the following addresses: Susan Auby, United States Environmental Protection Agency, Collection Strategies Division (Mail Code 2822), 1200 Pennsylvania Avenue, NW.,Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by E-mail at Auby.Susan@epamail.epa.gov, or download off the Internet at http://www.epa.gov/icr and refer to EPA ICR Number 1367.06. For technical questions about the ICR contact James W. Caldwell, (202) 564-9303, caldwell.jim@epa.gov.

SUPPLEMENTARY INFORMATION: Title: Regulation of Fuels and Fuel Additives: Gasoline Volatility; (40 CFR 80.27), EPA ICR Number 1367.06, OMB Control Number 2060-0178, expiring December 31, 2001. This is a request for an extension of a currently approved collection.

Abstract: Gasoline volatility, as measured by Reid Vapor Pressure (RVP) in pounds per square inch (psi), is controlled in the spring and summer in order to minimize evaporative carbon hydrocarbon emissions from motor vehicles. RVP ranges generally from about 7 psi to 9 psi, depending on location. The addition of ethanol to gasoline increases the RVP by about 1 psi. Gasoline that contains at least 9 volume percent ethanol is subject to a standard that is 1 psi greater. As an aid to industry compliance and EPA enforcement, the product transfer document (PTD), that accompanies a shipment of gasoline containing ethanol, is required by regulation to contain a legible and conspicuous statement that the gasoline contains ethanol and the percentage concentration of ethanol. This is intended to deter the mixing within the distribution system, particularly in retail storage tanks, of gasoline which contains ethanol with gasoline which does not contain ethanol. Such mixing would likely result in a gasoline with an ethanol concentration of less than 9 volume percent but with an RVP above the standard. Parties wishing a testing exemption must submit certain information to EPA. EPA estimates that 3,000,000 PTDs are generated annually for gasoline blended with ethanol. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on July 3, 2001 (66 FR 35239). No comments were received.

Burden Statement: The annual public reporting and record keeping burden for this collection of information is estimated to average 5 seconds per response. Burden means the total time, effort or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Refiners, Blenders, and Importers of gasoline blended with ethanol.

Estimated Number of Respondents: 1,000.

Frequency of Response: Daily.

Estimated Total Annual Hour Burden: 4,178 hours.

Estimated Total Annualized Capital, O&M Cost Burden: $0.

Send comments on the Agency's need for this information, the accuracy of the provided burden estimates, and any suggested methods for minimizing respondent burden, including through the use of automated collection techniques to the addresses listed above. Please refer to EPA ICR Number 1367.06 and OMB Control Number 2060-0178 in any correspondence.

Dated: October 29, 2001.
Oscar Morales, Director,
Collection Strategies Division.

[FR Doc. 01-28346 Filed 11-9-01; 8:45 am]

BILLING CODE 6560-50-P